DEPARTMENT OF ENERGY

Federal Energy Regulatory Commission

Combined Notice of Filings #1

Take notice that the Commission received the following exempt wholesale generator filings:

Docket Numbers: EG18-90-000.

Applicants: Rio Bravo Windpower, LLC.

Description: Notice of Self-Certification of Exempt Wholesale Generator Status of Rio Bravo Windpower, LLC.

Filed Date: 5/17/18.

Accession Number: 20180517-5071.

Comments Due: 5 p.m. ET 6/7/18.

Docket Numbers: EG18-91-000.

Applicants: Minco Wind IV, LLC.

Description: Notice of Self-Certification of Exempt Wholesale Generator Status of Minco Wind IV, LLC.

Filed Date: 5/17/18.

Accession Number: 20180517-5108.

Comments Due: 5 p.m. ET 6/7/18.

Docket Numbers: EG18-92-000.

Applicants: Minco Wind V, LLC.

Description: Notice of Self-Certification of Exempt Wholesale Generator Status of Minco Wind V, LLC.

Filed Date: 5/17/18.

Accession Number: 20180517-5113.

Comments Due: 5 p.m. ET 6/7/18.

Docket Numbers: EG18-93-000.

Applicants: Lorenzo Wind, LLC.

Description: Notice of Self-Certification of Exempt Wholesale Generator Status of Lorenzo Wind, LLC.

Filed Date: 5/17/18.

Accession Number: 20180517-5114.

Comments Due: 5 p.m. ET 6/7/18.

Docket Numbers: EG18-94-000.

Applicants: Wildcat Ranch Wind Project, LLC.

Description: Notice of Self-Certification of Exempt Wholesale Generator Status of Wildcat Ranch Wind Project, LLC.

Filed Date: 5/17/18.

Accession Number: 20180517-5115.

Comments Due: 5 p.m. ET 6/7/18.

Take notice that the Commission received the following electric rate filings:

Docket Numbers: ER18-1652-000.

Applicants: AL Mesquite Marketing, LLC.

Description: Baseline eTariff Filing: Market Based Rate Application to be effective 12/31/9998.

Filed Date: 5/17/18.

Accession Number: 20180517-5086.

Comments Due: 5 p.m. ET 6/7/18.

Docket Numbers: ER18-1653-000.

Applicants: Southern California Edison Company.

Description: § 205(d) Rate Filing: Amended LGIA Mojave Solar, LLC Mojave Solar & Mojave Solar C5 Project to be effective 5/18/2018.

Filed Date: 5/17/18.

Accession Number: 20180517-5123.

Comments Due: 5 p.m. ET 6/7/18.

Docket Numbers: ER18-1654-000.

Applicants: Duke Energy Carolinas, LLC.

Description: § 205(d) Rate Filing: DEC-NC 102 Project Amended and Restated ASOA to be effective 7/18/2018.

Filed Date: 5/18/18.

Accession Number: 20180518-5024.

Comments Due: 5 p.m. ET 6/8/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2018.
Nathaniel J. Davis, Sr.,
Deputy Secretary.

[FR Doc. 2018-11138 Filed 5-23-18; 8:45 am]

BILLING CODE 6717-01-P